GENERAL SERVICES ADMINISTRATION

41 CFR Chs. 101, 102, 300, and 301

48 CFR Chapter 5

Unified Agenda of Federal Regulatory and Deregulatory Actions

AGENCY: General Services Administration (GSA).

ACTION: Semiannual regulatory agenda.

SUMMARY: This agenda announces the proposed regulatory actions that GSA plans for the next 12 months and those that were completed since the spring 2015 edition. This agenda was developed under the guidelines of Executive Order 12866 “Regulatory Planning and Review.” The Agency's purpose in publishing this agenda is to allow interested persons an opportunity to participate in the rulemaking process and also invites interested persons to recommend existing significant regulations for review to determine whether they should be modified or eliminated. Proposed rules may be reviewed in their entirety at the Government's rulemaking Web site at http://www.regulations.gov.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's agenda requirements. Additional information on these entries is available in the Unified Agenda published on the Internet. In addition, for fall editions of the Agenda, the entire Regulatory Plan will continue to be printed in the Federal Register, as in past years, including GSA's regulatory plan.

FOR FURTHER INFORMATION CONTACT: Hada Flowers, Division Director, Regulatory Secretariat Division at (202) 501-4755.

Dated: September 18, 2015.
Christine Harada,
Associate Administrator, Office of Government-wide Policy.

General Services Administration—Proposed Rule Stage
Sequence No. | Title | Regulation Identifier No.
374 | General Services Administration Acquisition Regulation (GSAR); GSAR Case 2015-G512, Unenforceable Commercial Supplier Agreement Terms | 3090-AJ67

General Services Administration—Final Rule Stage
Sequence No. | Title | Regulation Identifier No.
375 | General Services Administration Acquisition Regulation (GSAR); GSAR Case 2010-G511, Purchasing by Non-Federal Entities | 3090-AJ43
376 | General Services Administration Acquisition Regulation (GSAR); GSAR Case 2013-G504, Transactional Data Reporting | 3090-AJ51
377 | General Services Administration Regulation (GSAR); GSAR Case 2015-G508, Removal of Unnecessary Construction Clauses and Editorial Changes | 3090-AJ57

GENERAL SERVICES ADMINISTRATION (GSA)

Office of Acquisition Policy

Proposed Rule Stage

374. • General Services Administration Acquisition Regulation (GSAR); GSAR Case 2015-G512, Unenforceable Commercial Supplier Agreement Terms

Legal Authority: 40 U.S.C. 121(c)

Abstract: GSA is proposing to amended the General Services Administration Acquisition Regulation (GSAR) to streamline the evaluation process to award contracts containing commercial supplier agreements Government and industry often spend significant time negotiating elements common in almost every commercial supplier agreement where the terms conflict with federal law. Past negotiations would always lead to deleting the terms from the contract, but only after several rounds of legal review by both parties. This case would explore methods for automatically nullifying these common terms out of contracts.

Timetable:

Action | Date | FR Cite
NPRM | 02/00/16

Regulatory Flexibility Analysis Required: Yes.

Agency Contact: Janet Fry, Program Analyst, General Services Administration, 1800 F Street NW., Washington, DC 20405, Phone: 703 605-3167, Email: janet.fry@gsa.gov.

RIN: 3090-AJ67

GENERAL SERVICES ADMINISTRATION (GSA)

Office of Acquisition Policy

Final Rule Stage

375. General Services Administration Acquisition Regulation (GSAR); GSAR Case 2010-G511, Purchasing by Non-Federal Entities

Legal Authority: 40 U.S.C. 121(c)

Abstract: The General Services Administration (GSA) is amending the General Services Administration Acquisition Regulation (GSAR), to implement the Federal Supply Schedules Usage Act of 2010 (FSSUA), the Native American Housing Assistance and Self-Determination Reauthorization Act of 2008 (NAHASDA), the John Warner National Defense Authorization Act for Fiscal Year 2007 (NDAA), and the Local Preparedness Acquisition Act for Fiscal Year 2008 (LPAA), to provide increased access to GSA's Federal Supply Schedules (Schedules). The Federal Supply Schedule Contracting and Solicitation Provisions and Contract Clauses, in regard to this statutory implementation. This case is included in GSA's retrospective review of existing regulations under Executive Order 13563. Additional information is located in GSA's retrospective review (2015), available at: www.gsa.gov/improvingregulations.

Timetable:

Action | Date | FR Cite
NPRM | 04/17/14 | 79 FR 21691
NPRM Comment Period End | 06/16/14
Final Rule | 12/00/15

Regulatory Flexibility Analysis Required: Yes.

Agency Contact: Dana L Munson, Procurement Analyst, General Services Administration, 1800 F Street NW., Washington, DC 20405, Phone: 202 357-9652, Email: dana.munson@gsa.gov.

RIN: 3090-AJ43

376. General Services Administration Acquisition Regulation (GSAR); GSAR Case 2013-G504, Transactional Data Reporting

Legal Authority: 40 U.S.C. 121(c)

Abstract: The General Services Administration (GSA) is issuing a final rule amending the General Services Administration Acquisition Regulation (GSAR) to require vendors to report transactional data from orders and prices paid by ordering activities. This includes orders placed against both Federal Supply Schedule (FSS) contract vehicles and GSA's non-FSS contract vehicles, Governmentwide Acquisition Contracts (GWACs) and Multi-Agency Contracts (MACs).

Once implemented, the new GSAR transactional data reporting clauses will enable GSA to provide Federal agencies with further market intelligence and expert guidance in procuring goods and services in each category of GSA acquisition vehicles. The new requirement will not affect the Department of Veterans Affairs (VA) FSS contract holders.

The proposed amendment to the GSAR will add an alternate version of the existing GSAR clause 552.238-74 Industrial Funding Fee and Sales Reporting (IFF) (Federal Supply Schedule) and a new GSAR clause 552.216-75 Sales Reporting and Fee Remittance. Under the FSS program, vendors that agree to the new transactional reporting requirement will have their contracts modified with an alternate version of clause 552.238-75 Price Reductions; the alternate version of clause 552.238-75 does not require the vendor to monitor and provide price reductions to the Government when the customer or category of customer upon which the contract was predicated receives a discount. GSA will implement the new transactional data reporting requirements in phases, beginning with specific contract vehicles, including a few select Federal Supply Schedules, or Special Item Numbers that show the greatest potential to optimize transactional data via category management and reduced price variability. GSA will engage stakeholders throughout the phases of the implementation.

GSA is reviewing the public comments received and analyzing alternatives for issuing collecting transactional data, including the potential publication of a final rule.

Timetable:

Action | Date | FR Cite
NPRM | 03/04/15 | 80 FR 11619
NPRM Comment Period End | 05/04/15
NPRM Comment Period Extended | 05/06/15 | 80 FR 25994
NPRM Comment Period Extended End | 05/11/15
Final Rule | 05/00/16

Regulatory Flexibility Analysis Required: Yes.

Agency Contact: Leah Price, Procurement Analyst, General Services Administration, 1800 F Street NW., Washington, DC 20405, Phone: 703 605-2558, Email: leah.price@gsa.gov.

RIN: 3090-AJ51

377. General Services Administration Regulation (GSAR); GSAR CASE 2015-G508, Removal of Unnecessary Construction Clauses and Editorial Changes

Legal Authority: 40 U.S.C. 121(c)

Abstract: The General Services Administration (GSA) is amending the General Services Administration Acquisition Regulation (GSAR) to revise GSAR part 536, Construction and Architect-Engineer Contracts, and corresponding provisions and clauses in GSAR part 552, Solicitation Provisions and Contract Clauses, to remove unnecessary construction clauses. These provisions and clauses are now covered in the FAR or are otherwise no longer necessary for the agency. Removing these clauses simplifies contract terms and conditions, reduces regulatory burden to contractors, and eliminates any conflict with language contained in construction contract technical specifications.

Timetable:

Action | Date | FR Cite
NPRM | 07/30/15 | 80 FR 45498
NPRM Comment Period End | 09/28/15
Final Rule | 02/00/16

Regulatory Flexibility Analysis Required: Yes.

Agency Contact: Christina Mullins, Procurement Analyst, General Services Administration, 1800 F Street NW., Washington, DC 20405, Phone: 202 969-4966, Email: christina.mullins@gsa.gov.

RIN: 3090-AJ57

[FR Doc. 2015-30661 Filed 12-14-15; 8:45 am]

BILLING CODE 6820-34-P